DEPARTMENT OF COMMERCE

Census Bureau

Quarterly Financial Report

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 10, 2004.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Yolando M. St. George, U.S. Census Bureau, Room 1282-3, Washington, DC 20233, Telephone (301) 763-6600.

SUPPLEMENTARY INFORMATION:

I. Abstract

The Quarterly Financial Report (QFR) Program is planning to resubmit for approval to the Office of Management and Budget (OMB) its four data collection forms: Quarterly Financial Report Forms QFR-101 (MG)—long form (Sent quarterly to Manufacturing, Mining, and Wholesale Trade corporations with assets of $50 million or more at time of sampling), QFR-102 (TR)—long form (Sent quarterly to Retail Trade corporations with assets of $50 million or more at time of sampling), QFR-101A (MG)—short form (Sent quarterly to Manufacturing corporations with assets of less than $50 million at time of sampling), and QFR-103 (NB)—Nature of Business Report (Sent at the beginning of sampling selection and at 2-year intervals if the corporation is included in the sample for more than eight quarters). The current expiration for these forms is July 31, 2004.

The QFR Program has published up-to-date aggregate statistics on the financial results and position of U.S. corporations since 1947. It is a principal economic indicator that also provides financial data essential to calculation of key Government measures of national economic performance. The importance of this data collection is reflected by the granting of specific authority to conduct the program in Title 13 of the United States Code, Section 91, which requires that financial statistics of business operations be collected and published quarterly. Public Law 105-252 extended the authority of the Secretary of Commerce to conduct the QFR Program under Section 91 through September 30, 2005.

The current scope of the QFR includes corporations in the Mining, Manufacturing, Wholesale Trade, and Retail Trade sectors. The main purpose of the QFR is to provide timely, accurate data on business financial conditions for use by Government and private-sector organizations and individuals. An extensive subscription mailing list attests to the diverse groups using these data including foreign countries, universities, financial analysts, unions, trade associations, public libraries, banking institutions, and U.S. and foreign corporations. The primary users are U.S. Governmental organizations charged with economic policymaking responsibilities. These organizations play a major role in providing guidance, advice, and support to the QFR Program.

II. Method of Collection

The Census Bureau will primarily use mail out/mail back survey forms to collect data. Companies will be asked to respond to the survey within 25 days of the end of the quarter for which the data are being requested, except for form QFR-103 (NB) which is due 30 days after receipt by the companies. Letters and/or telephone calls encouraging participation will be directed to respondents that have not responded by the designated time. The QFR Program introduced the use of computer readable medium for optional use as a substitute for the paper form to all companies filing long forms QFR-101 (MG) and QFR-102 (TR). The Computerized Self-Administered Questionnaire (CSAQ) is an electronic version of the data collection form. It provides the data provider with interactive edits making it possible to identify potential reporting problems before submission, thus reducing the need for follow-up. The CSAQ can be completed and submitted electronically via the Internet or by returning the CSAQ by mail for electronic data capture. During the next year a CSAQ short form will be developed and made available to companies filing the QFR-101A (MG).

III. Data

OMB Number: 0607-0432.

Form Number: QFR-101 (MG), QFR-102 (TR), QFR-101A (MG), and QFR-103 (NB).

Type of Review: Regular Review.

Affected Public: Manufacturing corporations with assets of $250 thousand or more and Mining, and Wholesale and Retail Trade corporations with assets of $50 million or more.

Estimated Number of Respondents:

Form QFR-101 (MG)—3,976 per quarter =15,904 annually

Form QFR-102 (TR)—490 per quarter = 1,960 annually

Form QFR-101A (MG)—4,231 per quarter = 16,924 annually

Form QFR-103 (NB)—1,414 per quarter = 5,656 annually

Total 40,444 annually

Estimated Time Per Response:

Form QFR-101 (MG)—Average hours 3.0

Form QFR-102 (TR)—Average hours 3.0

Form QFR-101A (MG)—Average hours 1.2

Form QFR-103 (NB)—Average hours 2.4

Estimated Total Annual Burden Hours: 85,000 hours.

Estimated Total Annual Cost: $2.0 million.

Respondent's Obligation: Mandatory.

Legal Authority: Title 13 United States Code, Sections 91 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 5, 2004.
Madeleine Clayton,
Management Analyst, Office of the Chief Information Officer.

[FR Doc. 04-5357 Filed 3-9-04; 8:45 am]

BILLING CODE 3510-07-P